DEPARTMENT OF THE INTERIOR

Minerals Management Service

Agency Information Collection Activities: Proposed Collection, Comment Request

AGENCY: Minerals Management Service (MMS), Interior.

ACTION: Notice of a new information collection titled Production and Royalty Reporting for Geothermal Resources (OMB Control Number 1010-NEW).

SUMMARY: To comply with the Paperwork Reduction Act of 1995 (44 U.S.C. 3501 et seq.), we are soliciting comments on an information collection titled Production and Royalty Reporting for Geothermal Resources. We will submit an information collection request (ICR) regarding the collection of data supporting geothermal royalty payments to the Office of Management and Budget (OMB) for review and approval after this comment period closes. This information collection does not involve a standard report form or specific format. Rather, this information collection requires information that companies already use, and in the format that they use it, to calculate their royalty payments for geothermal resources.

DATES: Submit written comments on or before January 8, 2001.

ADDRESSES: Submit written comments to Connie Bartram, Acting Chief, Regulations and FOIA Team, Minerals Management Service, Minerals Revenue Management, P.O. Box 25165, MS 302B2, Denver, Colorado 80225. If you use an overnight courier service, our courier address is Building 85, Room A-613, Denver Federal Center, Denver, Colorado 80225.

Public Comment Procedure: Submit your comments to the office listed in the ADDRESSES section, or email your comments to us at MRM.comments@mms.gov. Include the title of the information collection and the OMB Control Number in the “Attention” line of your comment; also, include your name and return address. Submit electronic comments as an ASCII file avoiding the use of special characters and any form of encryption. If you do not receive a confirmation that we have received your email, contact Ms. Bartram at (303) 231-3410, FAX (303) 231-3385. We will post all comments at http://www.rmp.mms.gov for public review.

Also, contact Ms. Bartram to review paper copies of the comments. The comments, including names and addresses of respondents, are available for public review during regular business hours at our offices in Lakewood, Colorado. Individual respondents may request that we withhold their home address from the public record, which we will honor to the extent allowable by law. There also may be circumstances in which we would withhold from the public record a respondent's identity, as allowable by law. If you request that we withhold your name and/or address, state this prominently at the beginning of your comment. However, we will not consider anonymous comments. We will make all submissions from organizations or businesses, and from individuals identifying themselves as representatives or officials of organizations or businesses, available for public inspection in their entirety.

FOR FURTHER INFORMATION CONTACT: Dennis C. Jones, Rules and FOIA Team, phone (303) 231-3046, FAX (303) 231-3385, email Dennis.C.Jones@mms.gov. A copy of the ICR will be available to you without charge upon request.

SUPPLEMENTARY INFORMATION: Title: Production and Royalty Reporting for Geothermal Resources.

OMB Control Number: 1010-NEW.

Bureau Form Number: N/A.

Abstract: The Secretary of the Department of the Interior (Secretary) is responsible under the Geothermal Steam Act of 1970, as amended (30 U.S.C. 1001 et seq.), for the proper collection and disbursement of royalties due on Federal geothermal resources. We perform these royalty management functions on behalf of the Secretary by delegated authority. We are also designing new compliance and asset management processes to ensure that royalties are accurately and timely paid in the most cost effective manner possible. The goal of these processes is to reduce compliance verification from 6 years, our current audit cycle, to not more than 3 years. To achieve this goal, we find it necessary to collect supplemental production and valuation information.

When a company or individual enters into a geothermal lease with the United States Government, that company or individual agrees to pay a share (royalty) of the value of production to the United States. It is expressly understood that the Secretary may establish the values and minimum values of geothermal resources to compute royalties in accordance with applicable regulations. Royalty rates are specified in the lease document. Although specific lease language may vary, holders of Federal geothermal leases also agree to comply with reporting requirements prescribed by the Secretary's delegated official.

We currently collect only minimal information supporting geothermal royalty payments, usually on an as-needed, case-by-case basis at the time of audit. In fact, the only geothermal information that we routinely collect (from royalty reporters) at this time is the data reported on the Report of Sales and Royalty Remittance, Form MMS-2014. While this report in its revised form (see 65 FR 31598, May 18, 2000) will remain our principal document for the reporting and payment of geothermal royalties, it does not contain sufficient data to gauge the accuracy of the royalty payment. This is particularly true for those geothermal resources valued by the netback procedure and other indirect methods, which require multiple computational steps to derive the resource's value reported on the Form MMS-2014. Accordingly, we propose to collect supplemental information that supports the royalty payment. This information collection does not involve a standard report form or specific format. Rather, this information collection requires information that companies already use, and in the format that they use it, to calculate their royalty payment and value for geothermal resources.

Submission of this information will be mandatory. Proprietary information will be protected. There are no questions of a sensitive nature included in this information collection.

Frequency: Monthly.

Estimated Number and Description of Respondents: 20 geothermal lessees and operators.

Estimated Annual Reporting and Recordkeeping “Hour” Burden: 240 hours.

Estimated Annual Reporting and Recordkeeping “Non-hour Cost” Burden: N/A.

Comments: The Paperwork Reduction Act at 44 U.S.C. 3506(c)(2)(A) requires each agency “to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The Paperwork Reduction Act also requires agencies to estimate the total annual reporting “non-hour cost” burden to respondents or recordkeepers resulting from the collection of information. We have not identified non-hour cost burdens and need to know if there are other costs associated with the collection of this information for either total capital and startup cost components or annual operation, maintenance, and purchase of service components. Your estimates should consider the costs to generate, maintain, and disclose or provide the information. You should describe the methods you use to estimate major cost factors, including system and technology acquisition, expected useful life of capital equipment, discount rate(s), and the period over which you incur costs. Capital and startup costs include, among other items, computers and software you purchase to prepare for collecting information; monitoring, sampling, drilling, and testing equipment; and record storage facilities.

Your estimates should not include equipment or services purchased: (i) Before October 1, 1995; (ii) to comply with requirements not associated with the information collection; (iii) for reasons other than to provide information or keep records for the Government; or (iv) as part of customary and usual business or private practices.

The Paperwork Reduction Act provides that an agency shall not conduct or sponsor, and a person is not required to respond to, a collection of information unless it displays a currently valid OMB Control Number.

Dated: November 3, 2000.
Cathy J. Hamilton,
Acting Associate Director for Minerals Revenue Management.

[FR Doc. 00-28821 Filed 11-8-00; 8:45 am]

BILLING CODE 4310-MR-P